DEPARTMENT OF LABOR

Office of the Secretary

Submission for OMB Review; Comment Request

July 2, 2003.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation, contact Darrin King on 202-693-4129 (this is not a toll-free number) or E-Mail: king.darrin@dol.gov.

Comments should be sent to Office of Information and Regulatory Affairs, Attn: OMB Desk Officer for the Employment Standards Administration (ESA), Office of Management and Budget, Room 10235, Washington, DC 20503 (202-395-7316 / (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension of a currently approved collection.

Title: Applications to Employ Homeworkers Piece Rate Measurements, Homeworker Handbooks.

OMB Number: 1215-0013.

Affected Public: Business or other for-profit; Individuals or households; and Not-for-profit institutions.

Frequency: On occasion.

Type of Response: Recordkeeping; Reporting; and Third party disclosure.

Total Respondents: 4,650.

Information collection requirement | Form No. | Annual responses | Average response time (hours) | Annual burden hours
Application to Employ Homeworkers | WH-46 | 25 | 0.50 | 13
Homeworker Handbooks | WH-75 | 18,400 | 0.50 | 9,200
Piece Rate Measurement | N/A | 150 | 1.00 | 150
Recordkeeping ¹ | N/A | 18,550 | 0.0083 | 154
Total |  | 18,575 |  | 9,517
¹ Not included in total responses.

Total Annualized Capital/Startup Costs: $0.

Total Annual Costs (operating/maintaining systems or purchasing services): $10.00.

Description: These reporting and recordkeeping requirements for employers and employees in industries employing homeworkers are necessary to insure employees are paid in compliance with the Fair Labor Standards Act.

Agency: Employment Standards Administration.

Type of Review: Extension of a currently approved collection.

Title: Rehabilitation Maintenance Certificate.

OMB Number: 1215-0161.

Affected Public: Individuals or households; Business or other for-profit; Not-for-profit institutions; and State, Local, or Tribal Government.

Frequency: Every four weeks.

Type of Response: Reporting.

Number of Respondents: 1,300.

Number of Annual Responses: 15,600.

Estimated Time Per Response: 10 minutes.

Total Burden Hours: 2,605.

Total Annualized Capital/Startup Costs: $0.

Total Annual Costs (operating/maintaining systems or purchasing services): $0.

Description: The OWCP-17 serves as a bill submitted by the program participant or OWCP, requesting reimbursement of expenses incurred due to participation in an approved rehabilitation effort for the preceding four week period or fraction thereof.

Darrin A. King,
Acting Departmental Clearance Officer.

[FR Doc. 03-17324 Filed 7-8-03; 8:45 am]

BILLING CODE 4510-27-P